FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 10, 2007.

A. Federal Reserve Bank of Atlanta (David Tatum, Vice President) 1000 Peachtree Street, N.E., Atlanta, Georgia 30309:

1. Guy F. Medley and Ann S. Medley; Michael A. Medley and Lanora A. Medley; Michael P. McCann and Janice A. McCann; Michael A. Bean and Deborah B. Bean; and Jeffrey K. Stout and Diane O. Stout, all of Dothan, Alabama; to collectively acquire voting shares of Citizens Southern Bancshares, Inc., and thereby indirectly acquire voting shares of Citizens State Bank, both of Vernon, Alabama.

B. Federal Reserve Bank of Kansas City (Todd Offenbacker, Assistant Vice President) 925 Grand Avenue, Kansas City, Missouri 64198-0001:

1. Shaun R. Hayes, St. Louis, Missouri; to acquire voting shares of Investors Financial Corporation of Pettis County, Inc., and thereby indirectly acquire voting shares of Excel Bank, both in Sedalia, Missouri.

Board of Governors of the Federal Reserve System, August 21, 2007.
Robert deV. Frierson,
Deputy Secretary of the Board.

[FR Doc. E7-16787 Filed 8-23-07; 8:45 am]

BILLING CODE 6210-01-S